NUCLEAR REGULATORY COMMISSION

Extension of Public Comment Period Environmental Impact Statement for the Mixed Oxide Fuel Fabrication Facility

AGENCY: Nuclear Regulatory Commission.

ACTION: Extension of comment period.

SUMMARY: On April 24, 2002, the U.S. Nuclear Regulatory Commission (NRC) published a Notice of Delay in Issuance of the Draft and Final Environmental Impact Statements for the Mixed Oxide (MOX) Fuel Fabrication Facility (see 67 FR 20183, dated April 24, 2002, for more details). The public was asked to submit comments on or before August 30, 2002, on:

(1) How the immobilization of surplus plutonium as a No Action Alternative should be discussed in the Draft Environmental Impact Statement (DEIS), since the Department of Energy (DOE) has canceled plans to build the Plutonium Immobilization Plant.

(2) Whether there are additional reasonable alternatives not identified during scoping that should be considered in the DEIS, in light of the changes described above. As discussed in the Scoping Summary Report, NRC is considering the environmental impacts of the proposed action (construction and operation of the proposed MOX fuel fabrication facility), continued storage of surplus plutonium at existing DOE sites, and immobilization of surplus plutonium. If the immobilization alternative is not considered, then the DEIS would only evaluate the proposed action and one No Action Alternative.

On August 22, 2002, the NRC announced three mid-September public meetings to discuss changes in the applicant's Environmental Report that resulted from changes in DOE's plans (see 67 FR 54501, dated August 22, 2002, for more details). In that notice, the staff indicated that it will also accept comments on the questions included in the April 24, 2002 Federal Register Notice. Consistent with this decision, the NRC is extending the August 30, 2002, deadline to submit responses to the above questions to September 30, 2002.

DATES: The comment period is extended to September 30, 2002.

ADDRESSES: Submit written comments to: Michael T. Lesar, Chief, Rules and Directives Branch, Division of Administrative Services, Office of Administration, Mail Stop T-6D59, U.S. Nuclear Regulatory Commission, Washington, DC 20555. Comments will also be accepted by e-mail. Interested parties may e-mail their comments to teh@nrc.gov. Comments will be accepted by fax at (301) 415-5398, Attention: Tim Harris.

Availability of Documents for Review: Information and documents associated with the MOX project are available for public review through: http://www.nrc.gov/materials/fuel-cycle-fac/mox/licensing.html. Documents may also be obtained from NRC's Public Document Room at U.S. Nuclear Regulatory Commission, Public Document Room, Washington, DC 20555.

FOR FURTHER INFORMATION CONTACT: For general or technical information associated with the proposed MOX facility, please contact: Tim Johnson at (301) 415-7299, or Drew Persinko at (301) 415-6522. For general information on the NRC NEPA process, please contact: Tim Harris at (301) 415-6613.

Signed in Rockville, MD, this 12th day of September, 2002.
For the Nuclear Regulatory Commission.
Cheryl Trottier,
Chief, Environmental and Performance Assessment Branch, Division of Waste Management, Office of Nuclear Material Safety and Safeguards.

[FR Doc. 02-23946 Filed 9-19-02; 8:45 am]

BILLING CODE 7590-01-P